DEPARTMENT OF TRANSPORTATION

Coast Guard

33 CFR Part 117

[CGD01-99-070]

RIN 2115-AE47

Drawbridge Operation Regulations: Westchester Creek, Bronx River, and Hutchinson River, NY

AGENCY: Coast Guard, DOT.

ACTION: Final rule.

SUMMARY: The Coast Guard is changing the operating rules for three New York City bridges; the Bruckner Boulevard/Unionport Bridge, at mile 1.7, across Westchester Creek at the Bronx, the Bruckner Boulevard/Eastern Boulevard Bridge, mile 1.1, across the Bronx River at the Bronx, and the Hutchinson River Parkway Bridge, mile 0.9, across the Hutchinson River, at the Bronx, all in New York. The bridge owner asked the Coast Guard to change the regulations to require a two-hour advance notice for openings. This action is expected to relieve the owner of the bridge from the requirement to crew each bridge at all times by using a roving crew of drawtenders and still meet the reasonable needs of navigation.

DATES: This rule is effective August 24, 2000.

ADDRESSES: Comments and material received from the public, as well as documents indicated in this preamble as being available in the docket, are part of docket (CGD01-99-029) and are available for inspection or copying at the First Coast Guard District, Bridge Branch Office, 408 Atlantic Avenue, Boston, Massachusetts 02110, 7 a.m. to 3 p.m., Monday through Friday, except Federal holidays.

FOR FURTHER INFORMATION CONTACT: Mr. John W. McDonald, Project Officer, First Coast Guard District, (617) 223-8364.

SUPPLEMENTARY INFORMATION:

Regulatory Information

On April 25, 2000, we published a notice of proposed rulemaking (NPRM) entitled Drawbridge Operation Regulations; Westchester Creek, Bronx River and Hutchinson River, New York, in the Federal Register (65 FR 24162). We received no comments in response to the notice of proposed rulemaking. No public hearing was requested and none was held.

Background and Purpose

Bruckner Boulevard/Eastern Boulevard Bridge

The Bruckner Boulevard/Eastern Boulevard Bridge, mile 1.1, across the Bronx River at the Bronx, has a vertical clearance of 27 feet at mean high water and 34 feet at mean low water. The existing operating regulations for the Bruckner Boulevard/Eastern Boulevard Bridge in 33 CFR 117.771(a) require the bridge to open on signal if at least a four-hour advance notice is given to the NYCDOT Radio Hotline, or NYCDOT Bridge Operations Office. From 7 a.m. to 9 a.m. and 4 p.m. to 6 p.m., Monday through Friday, the bridge need not open for vessel traffic.

Hutchinson River Parkway Bridge

The Hutchinson River Parkway Bridge, mile 0.9, across the Hutchinson River at the Bronx, has a vertical clearance of 30 feet at mean high water and 38 feet at mean low water. The existing operating regulations for the Hutchinson River Parkway Bridge in 33 CFR 117.793(b) require the bridge to open on signal if at least a six-hour advance notice is given.

Bruckner Boulevard/Unionport Bridge

The Bruckner Boulevard/Unionport Bridge, at mile 1.7, across Westchester Creek at the Bronx, has a vertical clearance of 14 feet at mean high water and 21 feet at mean low water. The existing operating regulations for the Bruckner Boulevard Bridge in 33 CFR 117.815 require the bridge to open on signal; except that, from 7 a.m. to 9 a.m. and 4 p.m. to 6 p.m., Monday through Friday, the draw need not open for vessel traffic.

The owner of the bridges, the New York City Department of Transportation (NYCDOT), submitted bridge opening log data to the Coast Guard for review. The bridge owner plans to operate all three bridges with multiple crews of drawtenders after a two-hour advance notice is given. The two-hour advance notice for all three bridges will make the advance notice requirement consistent for each bridge allowing sufficient time for the roving crews of drawtenders to operate all three bridges. The closed periods 7 a.m. to 9 a.m. and 4 p.m. to 6 p.m., Monday through Friday, for Bruckner Boulevard/Unionport Bridge and Bruckner Boulevard/Eastern Boulevard Bridge will not be changed by this rule. The number of bridge openings at the three bridges are as follows:

| 1998 | 1999
Bruckner/Unionport | 429 | 516
Bruckner/Eastern | 0 | 0
Hutchinson Parkway | 75 | 129

The Coast Guard believes that the owner's plan to use multiple crews of roving drawtenders to operate these bridges will meet the needs of navigation. The bridge owner will provide additional crews of drawtenders in the event the number of bridge opening requests increases.

The Coast Guard believes that the two-hour advance notice is reasonable because the bridges will still open on signal, except during the closed periods at Bruckner Boulevard/Unionport Bridge and Bruckner Boulevard/Eastern Boulevard Bridge, provided the two-hour notice is given. The commercial vessel transits on the Bronx River, Hutchinson River, Eastchester Creek and Westchester Creek are scheduled in advance. Providing a two-hour notice for bridge openings should not prevent vessels from transiting the waterway in a timely manner.

The advance notice time will be reduced at the Bruckner Boulevard/Eastern Boulevard and the Hutchinson River Parkway bridges from four-hour and six-hour advance notice, respectively to two-hours advance notice for both bridges.

Discussion of Proposal

The Coast Guard is revising the operating regulations for the Bronx River, Hutchinson River (Eastchester Creek) and Westchester Creek as follows:

Bruckner Boulevard/Eastern Boulevard Bridge

Revise the operating regulations at 33 CFR 117.771(a) for the Bruckner Boulevard/Eastern Boulevard Bridge, mile 1.1, across the Bronx River, to require that the draw shall open on signal if at least a two-hour advance notice is given. The requirement that the draw need not open for vessel traffic, 7 a.m. to 9 a.m. and 4 p.m. to 6 p.m., Monday through Friday, will remain unchanged by this action.

Hutchinson River Parkway Bridge

Revise the operating regulations at 33 CFR 117.793(b) for the Hutchinson Parkway Bridge, mile 0.9, across the Hutchinson River, to require that the draw shall open on signal if at least a two-hour advance notice is given.

Bruckner Boulevard/Unionport Bridge

Revise the operating regulations at 33 CFR 117.815 for the Bruckner Boulevard/Unionport Bridge, mile 1.7, across Westchester Creek, to add the requirement that the draw open on signal if at least a two-hour advance notice be given. The requirement that the draw need not open for vessel traffic, 7 a.m. to 9 a.m. and 4 p.m. to 6 p.m., Monday through Friday, will remain unchanged by this action.

Requests for bridge openings may be given to the New York City Department of Transportation (NYCDOT) Radio Hotline or NYCDOT Bridge Operations Office.

This consistent two-hour advance notice requirement will allow the bridge owner to utilize multiple crews of drawtenders to open the bridges and still meet the reasonable needs of navigation.

The Coast Guard believes this roving crew concept will be successful because commercial vessel transits are scheduled in advance. Providing a two-hour notice for bridge openings should not prevent vessels from transiting the waterway in a timely manner.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979). This conclusion is based on the fact that the bridges will still open for marine traffic provided a two-hour notice is given. Commercial transits are scheduled in advance. Providing a two-hour advance notice should not prevent vessels from transiting in a timely manner.

Small Entities

Under the Regulatory Flexibility Act (5 U.S.C. 601-612) we considered whether this rule would have a significant economic impact on a substantial number of small entities. “Small entities” comprises small businesses, not-for-profit organizations that are independently owned and operated and are not dominant in their fields, and governmental jurisdictions with populations less than 50,000.

The Coast Guard certifies under 5 U.S.C. 605(b) that this rule will not have a significant economic impact on a substantial number of small entities. This conclusion is based upon the fact that the bridges will still open for all vessel traffic after a two-hour advance notice is given. Commercial vessel transits are scheduled in advance. Providing a two-hour notice for bridge openings should not prevent vessels from transiting the waterway in a timely manner.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under figure 2-1, paragraph (32)(e) of Commandant Instruction M16475.1C, this rule is categorically excluded from further environmental documentation because promulgation of changes to drawbridge regulations have been found to not have a significant effect on the environment. A “Categorical Exclusion Determination” is available in the docket for inspection or copying where indicated under ADDRESSES.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. Section 117.771(a) is revised to read as follows:

§ 117.771 Bronx River.

(a) The draw of the Bruckner Boulevard Bridge, mile 1.1, at the Bronx, New York, shall open on signal if at least a two-hour advance notice is given to the New York City Department of Transportation (NYCDOT) Radio Hotline, or the NYCDOT Bridge Operations Office. From 7 a.m. to 9 a.m. and 4 p.m. to 6 p.m., Monday through Friday, the bridge need not be opened for the passage of vessels.

* * * * *

3. Section 117.793(b) is revised to read as follows:

§ 117.793 Hutchinson River (Eastchester Creek).

* * * * *

(b) The draw of the Hutchinson River Parkway Bridge, mile 0.9, at the Bronx, New York shall open on signal if at least a two-hour notice is given to the New York City Department of Transportation (NYCDOT) Radio Hotline, or the NYCDOT Bridge Operations Office.

* * * * *

4. Section 117.815 is revised to read as follows:

§ 117.815 Westchester Creek.

The draw of the Bruckner Boulevard/Unionport Bridge, mile 1.7, at the Bronx, New York, shall open on signal if at least a two-hour advance notice is given to the New York City Department of Transportation (NYCDOT) radio hotline, or the NYCDOT Bridge Operations Office. The draw need not be opened for vessel traffic from 7 a.m. to 9 a.m. and 4 p.m. to 6 p.m., Monday through Friday. The owner of the bridge shall provide clearance gauges according to the provisions of § 118.160 of this chapter.

Dated: July 17, 2000.
G.N. Naccara,
Rear Admiral, U.S. Coast Guard, Commander, First Coast Guard District.

[FR Doc. 00-18683 Filed 7-24-00; 8:45 am]

BILLING CODE 4910-15-P